DEPARTMENT OF THE INTERIOR

Bureau of Ocean Energy Management

[Docket ID BOEM-2019-0070]

Outer Continental Shelf (OCS), Gulf of Mexico (GOM), Oil and Gas Lease Sales for 2020

AGENCY: Bureau of Ocean Energy Management (BOEM), Department of the Interior (DOI).

ACTION: Notice to Rescind Notice of Intent to Prepare a Supplemental Environmental Impact Statement.

SUMMARY: This Notice advises the public that BOEM is rescinding the Notice of Intent (NOI) to prepare a Supplemental Environmental Impact Statement (EIS) for the OCS Gulf of Mexico (GOM) lease sales for 2020 and subsequent GOM lease sales through 2022.

DATES: This Notice takes effect on January 15, 2020.

FOR FURTHER INFORMATION CONTACT: For information on the status of the environmental review for the 2020 GOM oil and gas lease sales or BOEM's policies associated with this Notice, please contact Ms. Helen Rucker, Chief, Environmental Assessment Section, Office of Environment (GM 623E), Bureau of Ocean Energy Management, New Orleans Office, 1201 Elmwood Park Boulevard, New Orleans, Louisiana 70123-2394, telephone 504-736-2421, or email at helen.rucker@boem.gov.

SUPPLEMENTARY INFORMATION: On December 26, 2018, BOEM published a NOI to initiate the environmental review to inform the decisions for the two proposed lease sales scheduled in 2020 and the subsequent lease sales through 2022. The proposed lease sales include the Western and Central Planning Areas, and a small portion of the Eastern Planning Area not subject to Congressional moratorium.

At the time of publication, BOEM anticipated the first GOM lease sale of 2020 would be conducted under the 2019-2024 National OCS Oil and Gas Leasing Program and planned to prepare a Supplemental EIS for the proposed lease sales scheduled in 2020 through 2022.

However, development of the 2019-2024 Program has been delayed, and BOEM has decided not to prepare a Supplemental EIS at this time, because it is not making any substantial changes in the proposed actions that are relevant to environmental concerns. As a result, it has determined that no new circumstances or information relevant to environmental concerns and bearing on the proposed action or its impacts have arisen.

Thus, under the standards of 40 CFR 1502.9(c), there is nothing triggering the need for a Supplemental EIS. Accordingly, BOEM has determined NEPA adequacy on the use of the 2018 GOM Supplemental EIS for Lease Sale 254, which tiers from and updates the 2017-2022 GOM Multisale EIS. BOEM is hereby rescinding the December 26, 2018, Notice of Intent to prepare a Supplemental EIS.

Authority: This Notice to rescind the NOI is published pursuant to 43 U.S.C. 1337, 40 CFR 1508.22, and 43 CFR 46.415.

Michael A. Celata,
Regional Director, New Orleans Office, Department of the Interior Regions 1, 2, 4, and 6, Bureau of Ocean Energy Management.

[FR Doc. 2020-00500 Filed 1-14-20; 8:45 am]

BILLING CODE 4310-MR-P